INTERNATIONAL TRADE COMMISSION

[Investigations Nos. 701-TA-178 (Review) and 731-TA-636-638 (Review)]

Stainless Steel Wire Rod From Brazil, France, India, and Spain

Determinations

On the basis of the record ¹ developed in the subject five-year reviews, the United States International Trade Commission determines, pursuant to section 751(c) of the Tariff Act of 1930 (19 U.S.C. 1675(c)), that revocation of the countervailing duty order on stainless steel wire rod from Spain would not be likely to lead to continuation or recurrence of material injury to an industry in the United States within a reasonably foreseeable time. The Commission further determines ² that revocation of the antidumping duty orders on stainless steel wire rod from Brazil, France, and India would be likely to lead to continuation or recurrence of material injury to an industry in the United States within a reasonably foreseeable time.

¹ The record is defined in sec. 207.2(f) of the Commission's Rules of Practice and Procedure (19 CFR 207.2(f)).

² Chairman Koplan and Vice Chairman Okun dissenting with respect to France; Commissioner Askey dissenting with respect to Brazil, France, and India.

Background

The Commission instituted these reviews on July 1, 1999 (64 FR 35697) and determined on October 1, 1999, that it would conduct full reviews (64 FR 55962, October 15, 1999). Notice of the scheduling of the Commission's reviews and of a public hearing to be held in connection therewith was given by posting copies of the notice in the Office of the Secretary, U.S. International Trade Commission, Washington, DC, and by publishing the notice in the Federal Register on January 18, 2000 (65 FR 2644). The hearing was held in Washington, DC, on May 23, 2000, and all persons who requested the opportunity were permitted to appear in person or by counsel.

The Commission transmitted its determinations in these reviews to the Secretary of Commerce on July 18, 2000. The views of the Commission are contained in USITC Publication 3321 (July 2000), entitled Stainless Steel Wire Rod from Brazil, France, India, and Spain: Investigations Nos. 701-TA-178 (Review) and 731-TA-636-638 (Review).

By order of the Commission.
Issued: July 17, 2000.
Donna R. Koehnke,
Secretary.

[FR Doc. 00-18512 Filed 7-20-00; 8:45 am]

BILLING CODE 7020-02-P